FEDERAL COMMUNICATIONS COMMISSION

[EB Docket No. 04-381; DA 04-3048]

Hearing Designation Order To Adjudicate Petition for Reconsideration Filed by Gulf Power Company

AGENCY: Federal Communications Commission.

ACTION: Notice.

SUMMARY: On September 27, 2004, the Enforcement Bureau of the Federal Communications Commission (Commission) released a Hearing Designation Order (HDO) initiating a hearing to determine whether Gulf Power Company (Gulf Power) is entitled to receive compensation above marginal cost for any attachments to its utility poles belonging to Florida Cable Telecommunications Association; Comcast Cablevision of Panama City, Inc.; Mediacom Southeast, L.L.C.; and Cox Communications Gulf Coast, L.L.C (collectively, Cable Operators). To avail themselves of the opportunity to participate in this hearing, the parties were required to file a written Notice of Appearance with the Office of the Commission Secretary, stating an intention to appear on the date fixed for the hearing and present evidence on the issues specified in the HDO, within 20 days of the mailing of the HDO to the parties.

DATES: The HDO was mailed to the parties on September 27, 2004. The parties were required to file their Notices of Appearance by October 18, 2004.

ADDRESSES: Federal Communications Commission, 445 12th Street, SW., Room TW-204(B), Washington, DC 20554.

FOR FURTHER INFORMATION CONTACT: Rhonda J. Lien, 202-418-7330.

SUPPLEMENTARY INFORMATION: The Enforcement Bureau previously ruled that Gulf Power violated section 224 of the Act, 47 U.S.C. 224, and the Commission's pole attachment rules, 47 CFR 1.1401-1.1418, by charging the Cable Operators rates higher than those allowed by the Commission's rules and policies and by refusing to negotiate new rates in good faith. See Florida Cable Telecommunications Association, Inc.; Comcast Cablevision of Panama City, Inc.; Mediacom Southeast, L.L.C.; and Cox Communications Gulf Coast L.L.C. v. Gulf Power Company, Memorandum Opinion and Order, 18 FCC Rcd 9599 (Enf. Bur. 2003). Gulf Power timely filed a Petition for Reconsideration and Request for Evidentiary Hearing on June 23, 2003.

The complete text of this HDO is available for inspection and copying during normal business hours in the FCC Reference Information Center, Portals II, 445 12th Street, SW., Room CY-A257, Washington, DC 20554. This document may also be purchased from the Commission's duplicating contractor, Best Copy and Printing, Inc. (BCPI), Portals II, 445 12th Street, SW., Room CY-B402, Washington, DC 20554, telephone 202-863-2893, facsimile 202-863-2898, or via e-mail at http://www.bcpiweb.com.

Federal Communications Commission.
Christopher N. Olsen,
Deputy Chief, Enforcement Bureau.

[FR Doc. 04-25517 Filed 11-19-04; 8:45 am]

BILLING CODE 6712-01-P